DEPARTMENT OF LABOR

Employment and Training Administration

[TA-W-70,006]

Maine Woods Company, Including On-Site Leased Workers From Tempo Employment Services, Portage Lake, ME; Amended Certification Regarding Eligibility To Apply for Worker Adjustment Assistance

In accordance with Section 223 of the Trade Act of 1974, as amended (“Act”), 19 U.S.C. 2273, the Department of Labor issued a Certification of Eligibility to apply for Worker Adjustment Assistance on September 11, 2009, applicable to workers of Maine Woods Company, Portage Lake, Maine. The notice will soon be published in the Federal Register.

At the request of the State Agency, the Department reviewed the certification for workers of the subject firm. The workers are engaged in activities related to the production of hardwood lumber.

The company reports that workers leased from Tempo Employment Services were employed on-site at the Portage Lake, Maine, location of the subject firm. The Department has determined these workers were sufficiently under the control of the subject firm to be considered leased workers.

Based on these findings, the Department is amending this certification to include leased workers from Tempo Employment Services working on-site at the Portage Lake, Maine, location of Maine Woods Company.

The amended notice applicable to TA-W-70,006 is hereby issued as follows:

All workers of Maine Woods Company, including on-site leased workers from Tempo Employment Services, Portage, Maine, who became totally or partially separated from employment on or after May 18, 2008, through September 11, 2011, and all workers in the group threatened with total or partial separation from employment on the date of certification through two years from the date of certification, are eligible to apply for adjustment assistance under Chapter 2 of Title II of the Trade Act of 1974, as amended.

Signed in Washington, DC, this 21st day of October 2009.
Elliott S. Kushner,
Certifying Officer, Division of Trade Adjustment Assistance.

[FR Doc. E9-27008 Filed 11-9-09; 8:45 am]

BILLING CODE 4510-FN-P